DEPARTMENT OF TRANSPORTATION

National Highway Traffic Safety Administration

[Docket No. NHTSA 2002-12319 Notice 1]

Guardian Industries Corporation; Receipt of Application for Determination of Inconsequential Non-Compliance

Guardian Industries Corporation, (Guardian) of Auburn Hills, Michigan has applied to be exempted from the notification and remedy requirements of the 49 U.S.C. Chapter 301 “Motor Vehicle Safety” for noncompliance with Federal Motor Vehicle Safety Standard (FMVSS) No. 205 “Glazing Materials,” on the basis that the noncompliance is inconsequential to motor vehicle safety. Guardian has filed a report of noncompliance pursuant to 49 CFR part 573, “Defect and Noncompliance Information Reports.”

This notice of receipt of the application is published under 49 U.S.C. 30118 and 30120 and does not represent any agency decision or other exercise of judgement concerning the merits of the application. See 49 U.S.C. 30118(d) and 30120(h).

Guardian submitted the following information in accordance with the requirements of 49 CFR part 556, “Exemption for Inconsequential Defect or Noncompliance.”

Description of the Noncompliance

Guardian has determined that 11,562 tempered glass sunroof parts manufactured between November 2000 and February 2001, do not meet the labeling requirements of paragraph S6 of FMVSS No. 205, “Glazing Materials,” specifically Section 6 of ANSI Z26 as incorporated by reference. They were not marked with the correct model number. The parts were marked with the manufacturer's model number M-934, which corresponds to a tempered glass with 4.0 mm nominal thickness. The correct manufacturer's model number, should have been M-937, which is tempered glass with a 5.0 mm nominal thickness.

Information Supporting the Application

Guardian submitted a test report indicating the tempered glass parts were in full compliance with 49 CFR 571.205 except that the parts were affixed with the incorrect manufacturer's model number. The noncompliance was discovered during a routine in-house quality control inspection.

Guardian asserts that the noncompliance reported herein could not result in the wrong part being used in an OEM or ARG application given that the part would be ordered by its unique part number not the “M number” (which corresponds to the glass construction from which the part is fabricated).

Interested persons are invited to submit written data, views and arguments on the petition of Guardian, described above. Comments should refer to the Docket Number and be submitted to: Docket Management, Room PL 401, 400 Seventh Street, SW., Washington, DC 20590. It is requested that two copies be submitted.

All comments received before the close of business on the closing date, indicated below will be considered. The application and supporting materials, and all comments received after the closing date, will also be filed and will be considered to the extent practicable. When the application is granted or denied, the Notice will be published in the Federal Register pursuant to the authority indicated below.

Comment closing date: July 3, 2002.

(49 U.S.C. 30118, 30120; delegations of authority at 49 CFR 1.50 and 49 CFR 501.8)

Issued on: May 23, 2002.
Stephen R. Kratzke,
Associate Administrator for Safety Performance Standards.

[FR Doc. 02-13754 Filed 5-31-02; 8:45 am]

BILLING CODE 4910-59-P